DEPARTMENT OF TRANSPORTATION

Federal Motor Carrier Safety Administration

Sunshine Act Meetings; Unified Carrier Registration Plan Board of Directors

AGENCY: Federal Motor Carrier Safety Administration (FMCSA), DOT.

ACTION: Notice of Unified Carrier Registration Plan Board of Directors Meeting.

TIME AND DATE: The meeting will be held on January 30, 2018, from 1:00 p.m. to 5:00 p.m., Central Standard Time.

PLACE: The meeting will be open to the public at the; Royal Sonesta New Orleans, 300 Bourbon Street, New Orleans, LA 70130, and via conference call. Those not attending the meeting in person may call toll-free; 1-877-422-1931, passcode 2855443940, to listen and participate in the meeting.

STATUS: Open to the public.

MATTERS TO BE CONSIDERED: The Unified Carrier Registration Plan Board of Directors (the Board) will continue its work in developing and implementing the Unified Carrier Registration Plan and Agreement and to that end, may consider matters properly before the Board. An agenda for this meeting is available at: https://ucrplan.org.

FOR FURTHER INFORMATION CONTACT: Mr. Avelino Gutierrez, Chair, Unified Carrier Registration Board of Directors at (505) 827-4565.

Issued on: January 22, 2018.
Larry W. Minor,
Associate Administrator, Office of Policy, Federal Motor Carrier Safety Administration.

[FR Doc. 2018-01454 Filed 1-23-18; 4:15 pm]

BILLING CODE 4910-EX-P